ENVIRONMENTAL PROTECTION AGENCY

[EPA-HQ-OPP-2009-0825; FRL-8797-4]

Petition to Protect Children from Pesticide Drift; Notice of Availability

AGENCY: Environmental Protection Agency (EPA).

ACTION: Notice.

SUMMARY: On October 13, 2009, EPA received a petition from Earthjustice and Farmworker Justice, on behalf of several other organizations, requesting that the Agency systematically evaluate children's exposures to pesticide drift and require interim prohibitions on the use of certain pesticides near homes, schools, and other places where children congregate. With this notice, the Agency is soliciting comments on the petition. In a separate notice published elsewhere in this issue of the Federal Register, the Agency is soliciting comments on a draft Pesticide Registration (PR) notice providing guidance on pesticide drift labeling (see www.regulations.gov, docket identification number EPA-HQ-OPP-2009-0628).

DATES: Comments must be received on or before January 4, 2010.

ADDRESSES: Submit your comments identified by the docket identification (ID) number EPA-HQ-OPP-2009-0825, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number EPA-HQ-OPP-2009-0825. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jill Bloom, Chemical Review Manager, Pesticide Re-evaluation Division (7508P), Office of Pesticide Programs, Environmental Protection Agency, 1200 Pennsylvania Ave., NW., Washington, DC 20460-0001; telephone number: (703) 308-8019; fax number: (703) 308-7070; e-mail address: bloom.jill@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the chemical review manager listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects due to pesticide drift, compared to the general population.

II. Background

The October 13, 2009 petition can be found in the docket for this notice. In summary, the petition asserts that the Agency does not adequately consider the exposures of children to pesticide drift, especially children who live in agricultural areas. The petitioners are asking that the Agency assess pesticide-specific exposures from drift to children in homes, schools, and other areas in which children congregate; determine if such exposures pose excessive risks; and implement measures to reduce any such risks. The petitioners further request that the Agency immediately adopt specific interim restrictions on certain pesticides used near areas where children congregate. Apart from the petition, the Agency is engaged in a number of activities to address pesticide drift, including the development of a PR Notice with guidance on labeling to reduce exposures, including exposures to children. The Agency's activities to address drift are described in more detail in the document “Draft PR Notice 2009-X: Additional Information and Questions for Commenters” (available at www.regulations.gov, docket identification number EPA-HQ-OPP-2009-0628).

III. Process

A. What Action is the Agency Taking?

The Agency is soliciting public comment on the petition and opening a docket for the collection of these comments. The Agency will consider comments received during the public comment period when formulating its response to the petition.

B. Information Submission Requirements

Anyone may submit comments in response to the petition, and the docket for comments on the petition will remain publicly accessible through the decision-making process. To be considered by the Agency, the submitted comments must meet the following requirements:

• Interested persons must submit their comments during the comment period. The Agency may, at its discretion, consider comments submitted at a later date.

• The comments must be presented in a legible and useable form. For example, an English translation must accompany any material that is not in English and a written transcript must accompany any information submitted as an audiographic or videographic record. Written material may be submitted in paper or electronic form.

• Submitters must clearly identify the source of any submitted data or information included in their comments.

• Submitters may request the Agency to reconsider data or information that the Agency rejected previously. However, submitters must explain why they believe the Agency should reconsider such data or information.

List of Subjects

Environmental protection, Environmental Justice, Pesticides and pests, Spray drift, Earthjustice, Farmworker Justice.

Dated: October 27, 2009.
Richard P. Keigwin, Jr.,
Director, Pesticide Re-evaluation Division, Office of Pesticide Programs.

[FR Doc. E9-26595 Filed 11-3-09; 8:45 am]

BILLING CODE 6560-50-S